ENVIRONMENTAL PROTECTION AGENCY

[ER-FRL-6661-8]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in the Federal Register dated April 2, 2004 (69 FR 17403).

Draft EISs

ERP No. D-AFS-F65048-WI Rating EC2, Lakewood/Laona Plantation Thinning Project, To Implement Vegetation Management Activities, Chequamegon-Nicolet National Forest, Lakewood Ranger District, Forest, Langlade, and Oconto Counties, WI.

Summary: EPA expressed environmental concerns about the proposed project's cumulative and indirect impacts.

ERP No. D-COE-B09801-MA Rating 3, Cape Wind Energy Project, Construct and Operate 130 Wind Turbine Generators on Horseshoe Shoal in Nantucket Sound, MA.

Summary: EPA commented that the information and analysis provided in the Draft EIS was inadequate, noting that the DEIS does not provide enough information to fully characterize baseline environmental conditions, the environmental impacts of the project, and alternatives that avoid or minimize those impacts.

ERP No. D-COE-G32057-TX Rating LO, Cedar Bayou Navigation Channel (CBNC) Improvements Project, Implementation, Near Baytown in Harris and Chambers Counties, TX.

Summary: EPA had no objections to the proposed alternative.

ERP No. D-SFW-K99034-CA Rating EC2, Coachella Valley Multiple Species Habitat Conservation Plan (MSHCP), Santa Rosa and San Jacinto Mountains Trails Plan, Issuance of Incidental Take Permits, Riverside County, CA.

Summary: EPA expressed environmental concerns about water and air quality impacts, and requested additional information regarding consultation with tribal governments, environmental justice issues, enforcement of the Plan, and impacts to cultural resources and migratory birds.

ERP No. DS-NPS-K65325-CA Rating LO, Merced Wild and Scenic River Revised Comprehensive Management Plan, Amend and Supplement Information, Yosemite National Park, El Portal Administrative Site, Tuolume, Merced, Mono, Mariposa and Madera Counties, CA.

Summary: EPA has no objections to the preferred alternative.

However, EPA requests that the Park Service consider additional protection measures for the exceptional cultural resources in El Portal when delineating and zoning the river boundary.

Final EISs

ERP No. F-AFS-E65069-AL, Longleaf Ecosystem Restoration Project, Proposes a Five-Year Project to Begin Restoration of Native Longleaf, Talladega National Forest, Oakmulgee District, Tuscaloosa, Hale, Bibbs, and Perry Counties, AL.

Summary: EPA supports the Forest Service in its efforts to restore the longleaf pine ecosystem and enhance red-cockade woodpecker habitat, and has no objections to this project.

ERP No. F-AFS-J65410-WY, Upper Green River Area Rangeland Project, Propose Site Specific Grazing Management Practices, Bridger-Teton Forest, Sublette, Teton and Fremont Counties, WY.

Summary: The Final EIS was not responsive to EPA's comments on the Draft EIS. EPA continues to express environmental concerns with potential adverse impacts to water quality, aquatic resources, and riparian areas from livestock grazing.

ERP No. F-DOI-K99033-00, Programmatic EIS—Lower Colorado River Multi-Species Conservation Program, Issuing a Incidental Take Permit based on the Plan, Extending from Lake Mead to the Southerly International Boundary with Mexico, AZ, NV and CA.

Summary: EPA's concerns have been addressed; therefore, EPA has no objection to the action as proposed.

ERP No. F-FHW-F40382-MN, Ayd Mill Road Corridor, Improvements from I-35 E to St. Anthony Avenue (I-94) 2.6 kilometer (1.6 miles), Funding, City of Saint Paul, Ramsey County, MN.

Summary: EPA's concerns regarding mitigation to protect surface water quality have been satisfactorily addressed; therefore, EPA has no objection to the action as proposed.

ERP No. F-NAS-K11114-HI, Outrigger Telescopes Project, Proposed for the W.M. Keck Observatory Site within the Mauna Kea Science Reserve, Funding, Construction, Installation and Operation, Island of Hawaii.

Summary: EPA expressed continuing concerns about potential impacts to cultural resources.

Dated: March 22, 2005.
Robert W. Hargrove,
Director, NEPA Compliance Division, Office of Federal Activities.

[FR Doc. 05-5934 Filed 3-24-05; 8:45 am]

BILLING CODE 6560-50-P